FEDERAL ELECTION COMMISSION

11 CFR Chapter 113

[Notice 2018-07]

Rulemaking Petition: Former Candidates' Personal Use; Correction

AGENCY: Federal Election Commission.

ACTION: Rulemaking Petition; Notification of Availability; Correction.

SUMMARY: The Federal Election Commission published a Notification of Availability in the Federal Register on March 21, 2018 regarding a Petition for Rulemaking it received on February 5, 2018. The petition asked the Commission to revise and amend the existing rules concerning the personal use of campaign funds, specifically to clarify the application of those rules to former candidates and officeholders. The published document contained errors in the ADDRESSES and SUPPLEMENTARY INFORMATION captions.

FOR FURTHER INFORMATION CONTACT: Mr. Robert M. Knop, Assistant General Counsel, 1050 First Street NE, Washington, DC 20463, (202) 694-1650 or (800) 424-9530.

CORRECTION: In the Federal Register of March 21, 2018, 83 FR 12283, in the ADDRESSES caption, in the first column, correct the first paragraph to read:

ADDRESSES: All comments must be in writing. Commenters are encouraged to submit comments electronically via the Commission's website at http://sers.fec.gov/fosers/rulemaking.htm?pid=2883684, which references REG 2018-01. Alternatively, commenters may submit comments in paper form, addressed to the Federal Election Commission, Attn.: Robert M. Knop, Assistant General Counsel, 1050 First Street NE, Washington, DC 20463.

In the SUPPLEMENTARY INFORMATION caption, in the third column, correct the first full paragraph to read:

The Commission seeks comments on the petition. The public may inspect the petition on the Commission's website at http://sers.fec.gov/fosers/rulemaking.htm?pid=2883684, or in the Commission's Public Records Office, 1050 First Street NE, 12th Floor, Washington, DC 20463, Monday through Friday, from 9 a.m. to 5 p.m.

On behalf of the Commission.
Dated: April 3, 2018.
Caroline C. Hunter,
Chair, Federal Election Commission.

[FR Doc. 2018-08264 Filed 4-19-18; 8:45 am]

BILLING CODE 6715-01-P